DEPARTMENT OF THE INTERIOR

Fish and Wildlife Service

[FWS-R9-IA-2008-N0215; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by September 22, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq. ). Written data, comments, or requests for copies of these complete applications should be submitted to the Director (address above).

Applicant: The Phoenix Zoo, Phoenix, AZ, PRT-185747.

The applicant requests a permit to import one male jaguar (Panthera onca) from Centro Ecologico de Sonora, Mexico, for the purpose of scientific research and enhancement of the survival of the species.

Applicant: Wildlife Conservation Society, New York, NY, PRT-184950.

The applicant requests a permit to import one captive born male snow leopard (Uncia uncia) from the Tierpark Berlin, Berlin, Germany, for the purpose of enhancement of the survival of the species.

Applicant: John E. Yeagle II, Stansbury, UT, PRT-181041.

The applicant requests a permit to import the sport-hunted trophy of one male bontebok (Damaliscus pygargus pygargus) culled from a captive herd maintained under the management program of the Republic of South Africa, for the purpose of enhancement of the survival of the species.

Applicant: Hawthorn Corporation, Grayslake, IL, PRT-182592, 182594, 182595, 182596, 058658, 058659, 058660, 058662, 058663, 058664, 058665, 058666, 058667, 058668, 058669, 058681, 058683, 058685, 058736, and 058780.

The applicant requests permits to re-issue and issue for export/re-export and re-import tigers (Panthera tigris) to worldwide locations for the purpose of enhancement of the species through conservation education. The permit numbers and animals are: [New—182592, Sherkan; 182594, Sissy; 182595, Java2; 182596, Bo; Re-issue permits—058658, Sampson; 058659, Neena; 058660, Samira; 058662, Tibor; 058663, Delhi; 058664, Bihar; 058665, Jasmine; 058666, Kiki; 058667, Nakita; 058668, Vijay; 058669, Fabra; 058681, Obi; 058683, Amira; 058685, Mona; 058736, Ravi; and 058780, Ceasar]. This notification covers activities to be conducted by the applicant over a three-year period and the import of any potential progeny born while overseas.

Dated: August 1, 2008.
Lisa J. Lierheimer,
Senior Permit Biologist, Branch of Permits, Division of Management Authority.

[FR Doc. E8-19522 Filed 8-21-08; 8:45 am]

BILLING CODE 4310-55-P